ENVIRONMENTAL PROTECTION AGENCY

[ER-FRL-6644-4]

Environmental Impact Statements; Notice of Availability

Responsible Agency: Office of Federal Activities, General Information (202) 564-7167 or http://www.epa.gov/compliance/nepa/ Weekly receipt of Environmental Impact Statements Filed September 29, 2003 Through October 03, 2003 Pursuant to 40 CFR 1506.9.

EIS No. 230449, DRAFT EIS AFS, KY, Gray Mountain Coal Lease Land Use Analysis, Application for Leasing Tracts 3094Bb, 3049Be and 3049Az, Daniel Boone National Forest, Leslie County, KY, Comment Period Ends: November 24, 2003, Contact: Corey Miller (859) 745-3149.

EIS No. 230450, FINAL EIS, NPS, AK, Glacier Bay National Park and Preserve Vessel Quotas and Operating Requirements for Cruise Ships and Tour, Charter, and Private Vessels, Implementation, AK, Wait Period Ends: November 10, 2003, Contact: Nancy Swanton (907) 644-3696.

EIS No. 230451, FINAL EIS, BLM, CA, Headwaters Forest Reserve, Implementation Resource Management Plan, Long-Term Management Plan and Planning Framework, Located in the northwestern Coast Ranges near Humboldt Bay in Humboldt County, CA, Wait Period Ends: November 10, 2003, Contact: Lynda J. Roush (707) 825-2300.

EIS No. 230452, DRAFT EIS, FRC, CO, KS, Cheyenne Plains Pipeline Project, Natural Gas Transmission Pipeline, Construction and Operation, NPDES Permit and U.S. Army COE Section 404 Permit Issuance, several counties, CO and several counties, KS, Comment Period Ends: November 24, 2003, Contact: Magalie R. Salas (202) 502-8659.

EIS No. 230453, DRAFT EIS, BLM, CA, Desert Southwest Transmission Line Project, New Substation/Switching Station, Construction, Operation and Maintenance, Right-of-Way Grant and US Army COE Section 10 and 404 Permits Issuance, North Palm Springs and Blythe, CA, Comment Period Ends: November 24, 2003, Contact: John Kalish (760) 251-4849. This document is available on the Internet at: http://WWW.CA.BLM.GOV/Palmsprings

EIS No. 230454, FINAL EIS, NOA, Atlantic Surfclam and Ocean Quahog Fishery Management Plan Amendment 13, Implementation, U.S. Exclusive Economic Zone along the Atlantic Seaboard from Maine through North Carolina, Wait Period Ends: November 10, 2003, Contact: George H. Darcy (978) 281-9210.

This document is available on the Internet at: http://WWW.MAFMC.ORG/MID-ATLANTIC/Publication

EIS No. 230455, DRAFT EIS, BLM, NV, Tracy to Silver Lake Transmission Line Project, Construction, Operation and Maintenance of a 120kV Transmission Line from Tracy Power Plant to New Substations in the Spanish Spring Valley and Stead Areas, Right-of-Way Application, Washoe County, NV, Comment Period Ends: December 08, 2003, Contact: Terri Knutson (775) 885-6156.

EIS No. 230456, FINAL EIS, AFS, ID, Upper and Lower East Fork Cattle and Horse Allotment Management Plans, Updating the Allotment Plans to Allow Permitted Livestock Grazing, National Forest System Lands, Sawtooth and Challis National Forests, Custer County, ID, Wait Period Ends: November 10, 2003, Contact: Kamerson Sam (208) 774-3000.

This document is available on the Internet at: http://www.fs.fed.us/r4/sawtooth

EIS No. 230457, FINAL EIS, AFS, WI, McCaslin Project, Vegetation Management Activities Consistent with Direction in the Nicolet Forest Plan, Lakewood/Laona District, Chequamegon-Nicolet National Forest, Oconto and Forest Counties, WI, Wait Period Ends: November 10, 2003, Contact: John Lampereur (715) 276-6333.

EIS No. 230458, DRAFT SUPPLEMENT, FTA, CA, Orange County Centerline Project, Transportation Improvements, Updated Information concerning Four New Alternatives and Re-examining an Updated New No Build Alternative, City of Santa Ana through the City of Costa Mesa to the City of Irvine, Funding, Orange County, CA, Comment Period Ends: November 24, 2003, Contact: Hymie Luden (415) 744-3115.

EIS No. 230459, DRAFT EIS, USN, CA, Tertiary Treatment Plant and Associated Facilities Construction and Operation, Implementation, Marine Corps Base Camp Pendleton, San Diego County, CA, Comment Period Ends: November 24, 2003, Contact: Lisa Seneca (619) 532-4744.

Amended Notices

EIS No. 230349, DRAFT EIS, NOA, PR, VI, Generic Essential Fish Habitat Amendment To: Spiny Lobster, Queen Conch, Reef Fish and Coral Fishery Management Plans, Implementation, U.S. Caribbean, extending to the U.S. Exclusive Economic Zone (EEZ), Virgin Islands and Puerto Rico, Comment Period Ends: November 3, 2003, Contact: David Dale (727) 570-5317. Revision of FR Notice Published on 8/1/2003: CEQ Comment Period Ending 10/30/2003 has been Revised to 11/3/2003.

EIS No. 230392, DRAFT SUPPLEMENT, NOA, AK, Programmatic EIS—Alaska Groundfish Fisheries, New Information concerning the Ecosystem and a Preferred Alternative, Fishery Management Plans for the Groundfish Fishery of the Gulf of Alaska and the Groundfish of the Bering Sea and Aleutian Islands Area, North Pacific Fishery Management Council, AK, Comment Period Ends: November 06, 2003, Contact: James W. Balsiger (907) 586-7221. Revision of FR Notice Published on 9/5/2003: CEQ Comment Period Ending 10/15/2003 has been Extended to 11/6/2003.

EIS No. 230393, DRAFT EIS, NOA, TX, MS, FL, LA, AL, Generic Essential Fish Habitat Amendment to the Fishery Management Plans of the Gulf of Mexico (GOM) for Shrimp, Red Drum, Reef Fish, Stone Crab, Coral and Coral Reef, Spiny Lobster Fisheries of the GOM and South Atlantic Coastal Migratory Pelagic Resources of the Gulf of Mexico and South Atlantic, Due: December 01, 2003, Contact: Roy E. Crabtree (727) 570-5301. Revision of FR Notice Published on 8/29/2003: CEQ Comment Period Ending 11/26/2003 which should have been 11/29/2003 has been Revised to 12/1/2003 and Title has been Corrected.

Dated: October 7, 2003.
Joseph C. Montgomery,
Director, NEPA Compliance Division, Office of Federal Activities.

[FR Doc. 03-25811 Filed 10-9-03; 8:45 am]

BILLING CODE 6560-50-U